DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services at 69 FR 60891, is amended to reflect the new functional statement for the Office of Program Services (OPS) and the Division of Operational Support (DOS). This amendment reflects the decision that the Most Efficient Organization (MEO) that is being established as a result of SAMHSA's FY 2004 competitive sourcing study will be located within DOS/OPS. In addition, this amendment reflects the Office of the Secretary's decision to consolidate responsibility for administration of the Small and Disadvantaged Business Utilization (SADBU) program within a single office at the Department level. Hence, reference to the SADBU function has been deleted from the DOS functional statement. The changes are as follows:

Section M.20, Functions is amended as follows:

(A) The functional statements for the Office of Program Services (OPS) and the Division of Operational Support (DOS) within OPS is replaced with the following:

Office of Program Services (MB)

(1) Works in partnership with other SAMHSA and HHS components in managing, providing leadership, and ensuring SAMHSA's needs are met in the following service areas: Grant and contract application review, grants and contracts management, administrative services, human resources management, equal employment opportunity, organizational development and analysis, and information technology; (2) provides leadership in the development of policies for and the analysis, performance measurement, and improvement of SAMHSA administrative and management systems; (3) provides leadership, guidance, and technical expertise for the Agency's information technology program; (4) provides centralized administrative services for the Agency; (5) provides centralized staff assistance and office automation services for designated components of the Agency, and (6) conducts all aspects of the SAMHSA grants and contracts management process.

Division of Operational Support (MBH)

(1) Provides centralized administrative services for the Agency, including processing and coordinating requests for and providing advice on procurement actions, travel, property, facilities, and other activities; (2) coordinates actions as necessary with other HHS components such as the Program Support Center (PSC) procurement staff and the contract travel agency; (3) processes and coordinates requests for SAMHSA administrative actions; (4) provides advice and guidance to staff on administrative procedures for processing actions such as travel orders, acquisition requests, and training documents; (5) ensures administrative actions are consistent with regulations and other requirements, and implements general management policies as prescribed by SAMHSA and higher authorities; (6) coordinates the provision of support in the areas of real and personal property, building management, facility management, health and safety, security, transportation, parking, and telecommunications; (7) in collaboration with the Division of Financial Management in the Office of Policy, Planning, and Budget, performs budget execution tasks such as certifying funds, maintaining the commitment database, and reconciling accounts for program management for SAMHSA; (8) coordinates and complies with policies and procedures set forth by the Division of Financial Management for budget execution, and (9) provides centralized staff assistance and office automation services for designated components of the agency.

Section M.40, Delegations of Authority. All delegations and redelegations of authority to officers and employees of SAMHSA which were in effect immediately prior to the effective date of this reorganization shall continue in effect pending further redelegations, providing they are consistent with the reorganization.

These organizational changes are effective November 3, 2004.

Charles G. Curie,
Administrator.

[FR Doc. 04-25538 Filed 11-17-04; 8:45 am]

BILLING CODE 4160-01-P